DEPARTMENT OF HOUSING AND URBAN DEVELOPMENT

[Docket No. FR-5750-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Office of the Assistant Chief of Staff for Installation Management, Department of Army, Room 5A128, 600 Army Pentagon, Washington, DC 20310, (571) 256-8145; (This is not a toll-free number).

Dated: November 25, 2014.
Brian P. Fitzmaurice,
Director, Division of Community Assistance, Office of Special Needs Assistance Programs.

TITLE V, FEDERAL SURPLUS PROPERTY PROGRAM, FEDERAL REGISTER REPORT FOR 12/05/2014

Suitable/Available Properties

Building

Arizona

Building 90890

Fort Huachuca

Fort Huachuca AZ 85613

Landholding Agency: Army

Property Number: 21201440051

Status: Unutilized

Comments: Off-site removal only; no future agency need; 40 sq. ft.; 80+ months vacant; repairs needed; contact Army for more information

California

Building 00054

Los Alamitos Joint Forces Training Base

Los Alamitos CA 90720

Landholding Agency: Army

Property Number: 21201440019

Status: Unutilized

Comments: Off-site removal only; no future agency need; relocation extremely difficult due to size/type; 13,680 sq. ft.; national guard readiness center; very poor conditions; contact Army for more information

Colorado

Building 01431

6101 Wetzel Ave.

Ft. Carson CO 80913

Landholding Agency: Army

Property Number: 21201440050

Status: Unutilized

Comments: Off-site removal only; no future agency need; 202 sq. ft.; 4+ months vacant; repair needed; contact Army for more information

Georgia

Building 7097

Fort Stewart

Ft. Stewart GA 31314

Landholding Agency: Army

Property Number: 21201440007

Status: Underutilized

Comments: Off-site removal only; no future agency need; relocation difficult due to size/type; 9,520 sq. ft.; child development center; 6+ months vacant; poor conditions; contact Army for more information

100

Hunter Army Airfield

Hunter Army Airfield GA 31409

Landholding Agency: Army

Property Number: 21201440008

Status: Excess

Comments: Off-site removal only; relocation extremely difficult due to size; 13,331 sq. ft.; classroom; poor conditions; contact Army for more information

1020

Hunter Army Airfield

Hunter Army Airfield GA 31409

Landholding Agency: Army

Property Number: 21201440009

Status: Underutilized

Comments: Off-site removal only; no future agency need; relocation extremely difficult due to size/type; 39,653 sq.; storage; 1+ month vacant; contact Army for more information

9002

Hunter Army Airfield

Hunter Army Airfield GA 31406

Landholding Agency: Army

Property Number: 21201440010

Status: Underutilized

Comments: Off-site removal only; no future agency need; relocation difficult due to type; 221 sq. ft.; 12+ months vacant; poor conditions; asbestos; contact Army for more information

5 Buildings

Fort Benning

Ft. Benning GA 31905

Landholding Agency: Army

Property Number: 21201440013

Status: Underutilized

Directions: 8744; 8780; 8782; 8787; 9045

Comments: Off-site removal only; no future agency need; sq. ft. varies; poor conditions; contact Army for more information

Building 8510

5037 Moye Rd.

Fort Benning GA 31905

Landholding Agency: Army

Property Number: 21201440014

Status: Unutilized

Comments: Off-site removal only; no future agency need; 10,800 sq. ft.; relocation extremely difficult due to size/type; 8+ yrs.-old; poor conditions; contact Army for more information

2 Buildings

Fort Benning

Ft. Benning GA 31905

Landholding Agency: Army

Property Number: 21201440016

Status: Underutilized

Directions: 9208; 9211

Comments: Off-site removal only; no future agency need; relocation difficult due to size/type; sq. ft. varies; poor conditions; secured area; contact Army for more information

Tennessee

9 Buildings

Fort Campbell

Ft. Campbell TN 42223

Landholding Agency: Army

Property Number: 21201440002

Status: Excess

Directions: 00039; 00846; 05123; 05638; 05640; 05641; 05646; 07540; 07811

Comments: Off-site removal only; relocation may be extremely difficult due to size/type; sq. ft. varies; poor conditions; contamination; contact Army for more information

09R28

Fort Campbell

Ft. Campbell TN 42223

Landholding Agency: Army

Property Number: 21201440003

Status: Underutilized

Comments: Off-site removal only; no future agency need; 552 sq. ft.; 26+ yrs.-old; range support facility; repairs needed; secured area; contact Army for more information

04R28

Fort Campbell

Ft. Campbell TN 42223

Landholding Agency: Army

Property Number: 21201440004

Status: Underutilized

Comments: Off-site removal only; no future agency need; 800 sq. ft.; 26+ yrs.-old; major repairs; secured area; contact Army for more information

03R28, 02r28, & 01R28

Fort Campbell

Ft. Campbell TN 42223

Landholding Agency: Army

Property Number: 21201440005

Status: Underutilized

Comments: Off-site removal only; no future agency need; 552 sq. ft.; range support facility; major repairs; secured area; contact Army for more information

05127

Fort Campbell

Ft. Campbell TN 42223

Landholding Agency: Army

Property Number: 21201440058

Status: Excess

Comments: Off-site removal only; 224 sq. ft.; storage; fair conditions; contact Army for more information on accessibility/removal requirements

4 Buildings

Fort Campbell

Ft. Campbell TN 42223

Landholding Agency: Army

Property Number: 21201440059

Status: Excess

Directions: 05211 (320 sq. ft.); 05665 (800 sq. ft.); 00100 (800 sq. ft.); 01604 (126 sq. ft.)

Comments: Off-site removal only; fair conditions; usage varies; contact Army for more information on a specific property

Texas

07133

Fort Bliss

Ft. Bliss TX 79916

Landholding Agency: Army

Property Number: 21201440011

Status: Unutilized

Comments: Off-site removal only; no future agency need; relocation difficult due to size/type; 12,178 sq. ft.; storage; 120+ months vacant; poor conditions; contact Army for more information

5 Buildings

Fort Bliss

Ft. Bliss TX 79916

Landholding Agency: Army

Property Number: 21201440012

Status: Unutilized

Directions: 07134; 07142; 07153; 07162; 07178

Comments: Off-site removal only; no future agency need; relocation difficult due to size/type; sq. ft. varies; 120+ months vacant; poor conditions; contact Army for more information

05095

Fort Bliss

Ft. Bliss TX 79916

Landholding Agency: Army

Property Number: 21201440022

Status: Unutilized

Comments: Off-site removal only; no future agency need; 12+ months vacant; good conditions; secured area; contact Army for more information

07113

Fort Bliss

Ft. Bliss TX 79916

Landholding Agency: Army

Property Number: 21201440023

Status: Unutilized

Comments: Off-site removal only; 8,855 sq. ft.; no future agency need; relocation difficult due to size/type; 120+ months vacant; child-care center; poor conditions; contact Army for more information

2 Buildings

Yoakum USARC

Yoakum TX 77995

Landholding Agency: Army

Property Number: 21201440035

Status: Underutilized

Directions: P1005; P1006

Comments: Off-site removal only; no future agency need; 30 sq. ft.; storage for flammable materials; 53+ yrs.-old; remediation needed; contact Army for more information

01113

Red River Army Depot

Texarkana TX 75507

Landholding Agency: Army

Property Number: 21201440043

Status: Excess

Comments: Off-site removal only; 257 sq. ft.; access control facility; 50+ yrs.-old; contact Army for more information

00940

Red River Army Depot

Texarkana TX 75507

Landholding Agency: Army

Property Number: 21201440044

Status: Excess

Comments: Off-site removal only; 200 sq. ft.; break room; extensive deterioration; 19+ yrs.-old; secured area; contact Army for more information

00930

Red River Army Depot

Texarkana TX 75507

Landholding Agency: Army

Property Number: 21201440046

Status: Excess

Comments: Off-site removal only; 200 sq. ft.; ammunition storage; 31+ yrs.-old; extensive deterioration; secured area; contact Army for more information

Washington

Building 02080

Joint Base Lewis McChord

JBLM WA 98433

Landholding Agency: Army

Property Number: 21201440048

Status: Underutilized

Comments: Off-site removal only; no future agency need; relocation may be difficult due to type/size; 2,031 sq. ft.; storage; 1+ month vacant; major repairs needed; contact Army for more information

2 Buildings

Joint Base Lewis McChord

JBLM WA 98433

Landholding Agency: Army

Property Number: 21201440057

Status: Underutilized

Directions: 01036; 01037

Comments: Off-site removal only; no future agency need; relocation extremely difficult due to size; 8,142 sq. ft. for each; major repairs needed; contact Army for more information

Wisconsin

7 Buildings

Fort McCoy

Ft. McCoy WI 54656

Landholding Agency: Army

Property Number: 21201440053

Status: Unutilized

Directions: 00822; 01146; 01350; 02559; 02866; 09020; 09030

Comments: Off-site removal only; no future agency need; relocation may be difficult due to size/type; contamination; poor conditions; sq. varies; secured area; contact Army for more info.

Unsuitable Properties

Building

Alabama

C1310

Fort McClellan

Ft. McClellan AL 36205

Landholding Agency: Army

Property Number: 21201440032

Status: Unutilized

Comments: Public access denied and no alternative method to gain access w/out compromising national security

Reasons: Secured Area

7134

Redstone Arsenal

Redstone Arsenal AL 35898

Landholding Agency: Army

Property Number: 21201440038

Status: Unutilized

Comments: Documented deficiencies: suffered severe flood damage; severe structural damage; clear threat to physical safety

Reasons: Extensive deterioration

4812

Redstone Arsenal

Redstone Arsenal AL 35898

Landholding Agency: Army

Property Number: 21201440039

Status: Unutilized

Comments: Documented deficiencies: suffered major damage from tornado; roof torn completely off; clear threat to physical safety

Reasons: Extensive deterioration

Arkansas

5 Buildings

Pine Bluff Arsenal

Pine Bluff AR 71602

Landholding Agency: Army

Property Number: 21201440045

Status: Unutilized

Directions: 32070; 33150; 34133; 51650; 55040

Comments: Public access denied and no alternative method to gain access w/out compromising national security

Reasons: Secured Area

Colorado

Building 07303

Fort Carson

Ft. Carson CO 80913

Landholding Agency: Army

Property Number: 21201440020

Status: Unutilized

Comments: Public access denied and no alternative method to gain access w/out compromising national security

Reasons: Secured Area

Illinois

343

USAG-Rock Island Arsenal

Rock Island Arsenal IL 61299

Landholding Agency: Army

Property Number: 21201440037

Status: Underutilized

Comments: Public access denied and no alternative method to gain access w/out compromising national security

Reasons: Secured Area

Maryland

10 Buildings

Aberdeen Proving Ground

Aberdeen MD 21005

Landholding Agency: Army

Property Number: 21201440025

Status: Unutilized

Directions: 00351; 00379; 00893; E2570; E3365; E4100; E4162; E5307; E5359; E6000

Comments: Public access denied and no alternative method to gain access w/out compromising national security

Reasons: Secured Area

E6100

Aberdeen Proving Ground

Abingdon MD 21009

Landholding Agency: Army

Property Number: 21201440027

Status: Unutilized

Comments: Entire property located w/in floodway where it has not been contained or corrected

Reasons: Floodway

6 Buildings

Aberdeen Proving Ground

Aberdeen MD 21010

Landholding Agency: Army

Property Number: 21201440028

Status: Unutilized

Directions: E6101; E6102; E6105; E6110; E6111; E6112

Comments: Entire property located in a floodway where it has not been contained/corrected; public access denied and no alternative method to gain access w/out compromising national security

Reasons: Floodway; Secured Area

Missouri

13 Buildings

Fort Leonard Wood

Fort Leonard Wood MO 65473

Landholding Agency: Army

Property Number: 21201440024

Status: Unutilized

Directions: 02431; 02433; 02435; 02462; 02464; 02466; 02468; 02470; 02472; 02474; 02476; 02478;02480

Comments: Public access denied and no alternative method to gain access w/out compromising national security

Reasons: Secured Area

Building 00500

Fort Leonard Wood

Fort Leonard Wood MO 65049

Landholding Agency: Army

Property Number: 21201440026

Status: Unutilized

Comments: Public access denied and no alternative method to gain access w/out compromising national security

Reasons: Secured Area

11 Buildings

Fort Leonard Wood

Fort Leonard Wood MO 65473

Landholding Agency: Army

Property Number: 21201440029

Status: Unutilized

Directions: 02461; 02463; 02465; 02467; 02469; 02471; 02473; 02475; 02477; 02479; 02481

Comments: Public access denied and no alternative method to gain access w/out compromising national security

Reasons: Secured Area

3 Buildings

Fort Leonard Wood

Fort Leonard Wood MO 65473

Landholding Agency: Army

Property Number: 21201440030

Status: Unutilized

Directions: 02430; 02432; 02434

Comments: Public access denied and no alternative method to gain access w/out compromising national security

Reasons: Secured Area

2 Buildings

Fort Leonard Wood Lake of Ozarks Rec. Area

Fort Leonard Wood MO 65473

Landholding Agency: Army

Property Number: 21201440031

Status: Unutilized

Directions: 00550; 00500

Comments: Public access denied and no alternative method to gain access w/out compromising national security

Reasons: Secured Area

New Jersey

2 Buildings

Picatinny Arsenal

Dover NJ 07806

Landholding Agency: Army

Property Number: 21201440056

Status: Unutilized

Directions: 3208B; 3208G

Comments: Documented deficiencies: roof caving in; walls are rotted; overgrown vegetation; clear threat to physical safety

Reasons: Extensive deterioration

North Carolina

4 Buildings

Fort Bragg

Ft. Bragg NC 28310

Landholding Agency: Army

Property Number: 21201440001

Status: Unutilized

Directions: M6450; M2346; 14865; 03554

Comments: Public access denied and no alternative method to gain access w/out compromising national security

Reasons: Secured Area

7 Buildings

Fort Bragg

Ft. Bragg NC 28310

Landholding Agency: Army

Property Number: 21201440021

Status: Underutilized

Directions: 12732; 69262; 69357; 85703; 85706; 86103; 42102

Comments: Public access denied and no alternative method to gain access w/out compromising national security

Reasons: Secured Area

Oklahoma

Buildings

Fort Sill

Ft. Sill OK 73503

Landholding Agency: Army

Property Number: 21201440054

Status: Unutilized

Directions: 6280; 6281; 6283; 6292; 6295; 6293

Comments: Public access denied and no alternative method to gain access w/out compromising national security

Reasons: Secured Area

Pennsylvania

6 Buildings

Tobyhanna Army Depot

Tobyhanna PA 18466

Landholding Agency: Army

Property Number: 21201440036

Status: Unutilized

Directions: 00046; 00245; 00246; A0031; A0132; S0051

Comments: Public access denied and no alternative method to gain access w/out compromising national security

Reasons: Secured Area

Rhode Island

Building 000P2

570 Read Schoolhouse Rd.

NG Coventry RI 02816

Landholding Agency: Army

Property Number: 21201440049

Status: Excess

Comments: Public access denied and no alternative method to gain access w/out compromising national security

Reasons: Secured Area

Building OSKRG

Camp Fogarty

East Greenwich RI 02818

Landholding Agency: Army

Property Number: 21201440052

Status: Unutilized

Comments: Documented Deficiencies: structural damage; several large holes; severely rotten foundation; extreme rodent infestation; clear threat to physical safety

Reasons: Extensive deterioration

Tennessee

19 Buildings

Fort Campbell

Ft. Campbell TN 42223

Landholding Agency: Army

Property Number: 21201440055

Status: Excess

Directions: A5212; 06099; 05860; 05800; 05223; 05217; 05668; 05214; 05213; 05212; 05160; 05128; 05125; 05121; 03068; 02604; 00893; 00892; 00849

Comments: Public access denied and no alternative method to gain access w/out compromising national security

Reasons: Secured Area

Texas

01445

Red River Army Depot

Texarkana TX 75507

Landholding Agency: Army

Property Number: 21201440040

Status: Excess

Comments: Public access denied and no alternative method to gain access w/out compromising national security; documented deficiencies: roof caving-in; clear threat to physical safety

Reasons: Extensive deterioration; Secured Area

3 Buildings

Red River Army Depot

Red River Army Depot TX 75507

Landholding Agency: Army

Property Number: 21201440041

Status: Excess

Directions: 01161; 01162; 01165

Comments: Public access denied and no alternative method to gain access w/out compromising national security

Reasons: Secured Area

01154

Red River Army Depot

Texarkana TX 75507

Landholding Agency: Army

Property Number: 21201440042

Status: Excess

Comments: Public access denied and no alternative method to gain access w/out compromising national security

Reasons: Secured Area

Virginia

5 Buildings

Fort Pickett Training Center

Blackstone VA 23824

Landholding Agency: Army

Property Number: 21201440006

Status: Unutilized

Directions: T2362; T2363; T2364; T2411; T2603

Comments: Public access denied and no alternative method to gain access w/out compromising national security

Reasons: Secured Area

6 Buildings

Fort Belvoir

Ft. Belvoir VA 22060

Landholding Agency: Army

Property Number: 21201440017

Status: Excess

Directions: 1151; 1906; 1141; 1186; 1194; 1195

Comments: Public access denied and no alternative method to gain access w/out compromising national security

Reasons: Secured Area

2 Buildings

Defense Distribution San Joaquin

Tracy Site 00046, 0234A

Tracy VA 95304

Landholding Agency: Army

Property Number: 21201440018

Status: Unutilized

Comments: Public access denied and no alternative method to gain access w/out compromising national security

Reasons: Secured Area

Washington

23 Buildings

Joint Base Lewis McChord

JBLM WA 98433

Landholding Agency: Army

Property Number: 21201440047

Status: Underutilized

Directions: 07517; 07514; 07507; 07500; 03422; 03421; 03420; 03419; 03416; 03415; 03414; 03413; 03412; 03324; 03287; 03286; 03279; 03278; 03277; 03214;03212; 03213; 03080

Comments: Public access denied and no alternative method to gain access w/out compromising national security

Reasons: Secured Area

Wisconsin

09003

Fort McCoy

Ft. McCoy WI 54656

Landholding Agency: Army

Property Number: 21201440034

Status: Unutilized

Comments: Public access denied and no alternative method to gain access w/out compromising national security

Reasons: Secured Area

[FR Doc. 2014-28336 Filed 12-4-14; 8:45 am]

BILLING CODE 4210-67-P